DEPARTMENT OF HOMELAND SECURITY

Coast Guard

[Docket No. USCG-2010-1066]

Recreational Boating Safety Projects, Programs, and Activities Funded Under Provisions of the Transportation Equity Act for the 21st Century; Fiscal Year 2014

ACTION: Notice.

SUMMARY: In 1999, the Transportation Equity Act for the 21st Century made $5 million per year available for the payment of Coast Guard expenses for personnel and activities directly related to coordinating and carrying out the national recreational boating safety program. In 2005, the law was amended, and the amount was increased to $5.5 million. The Coast Guard is publishing this notice to satisfy a requirement of the Act that a detailed accounting of the projects, programs, and activities funded under the national recreational boating safety program provision of the Act be published annually in the Federal Register. This notice specifies the funding amounts the Coast Guard has committed, obligated, or expended during fiscal year 2014, as of September 30, 2014.

FOR FURTHER INFORMATION CONTACT: For questions on this notice, call Jeff Ludwig, Regulations Development Manager, telephone 202-372-1061.

SUPPLEMENTARY INFORMATION:

Background and Purpose

The Transportation Equity Act for the 21st Century became law on June 9, 1998 (Pub. L. 105-178; 112 Stat. 107). The Act required that of the $5 million made available to carry out the national recreational boating safety program each year, $2 million shall be available only to ensure compliance with Chapter 43 of Title 46, U.S. Code. On September 29, 2005, the Sportfishing and Recreational Boating Safety Amendments Act of 2005 was enacted (Pub. L. 109-74; 119 Stat. 2031). This Act increased the funds available to the national recreational boating safety program from $5 million to $5.5 million annually, and stated that “not less than” $2 million shall be available only to ensure compliance with Chapter 43 of Title 46, U.S. Code.

These funds are available to the Secretary from the Sport Fish Restoration and Boating Trust Fund established under 26 U.S.C. 9504(a) for payment of Coast Guard expenses for personnel and activities directly related to coordinating and carrying out the national recreational boating safety program. Under 46 U.S.C. 13107(c), no funds available to the Secretary under this subsection may be used to replace funding traditionally provided through general appropriations, nor for any purposes except those purposes authorized; namely, for personnel and activities directly related to coordinating and carrying out the national recreational boating safety program. Amounts made available under 46 U.S.C. 13107(c) remain available during the two succeeding fiscal years. Any amount that is unexpended or unobligated at the end of the 3-year period during which it is available, shall be withdrawn by the Secretary and allocated to the States in addition to any other amounts available for allocation in the fiscal year in which they are withdrawn or the following fiscal year.

Use of these funds requires compliance with standard Federal contracting rules with associated lead and processing times resulting in a lag time between available funds and spending. The total amount of funding transferred to the Coast Guard from the Sport Fish Restoration and Boating Trust Fund and committed, obligated, and/or expended during fiscal year 2014 for each activity is shown below.

Specific Accounting of Funds

Manufacturer Compliance Inspection Program/Boat Testing Program: Funding was provided to continue the national recreational boat factory visit program, initiated in January 2001. During the Fiscal Year a new contract was awarded that revised the factory visit program into the Manufacturer Compliance Inspection Program. Under this revised program, contracted personnel, acting on behalf of the Coast Guard, visit recreational boat manufacturers, recreational boat dealers, and recreational boat shows to inspect for compliance with the Federal regulations. During the 2014 reporting year, inspectors performed 444 factory visits, 81 dealer visits, and 3 boat show visits resulting in 1,272 boats being inspected. Funding was also provided for testing of certain associated equipment and in-water testing of atypical and used recreational boats for compliance with capacity and flotation standards. ($1,521,108). Additional expenditures regarding this topic include Contract Personnel Support ($109,122) and Reimbursable Salaries ($146,248). Collectively, these expenditures are considered to be applicable to the legal requirement that “not less than” $2 million be available to ensure compliance with Chapter 43 of Title 46, U.S. Code.

Boating Accident Report Database (BARD) Web System: Funding was allocated to continue providing the BARD Web System, which enables reporting authorities in the 50 States, five U.S. Territories, and the District of Columbia to submit their accident reports electronically over a secure Internet connection. The system also enables the user community to generate statistical reports that show the frequency, nature, and severity of boating accidents. Funds supported system maintenance, development, and technical (hotline) support. ($379,946).

Contract Personnel Support: Funding was provided for contract personnel to support the appropriate cost/benefit analyses for potential new regulations and to conduct general boating safety-related research and analysis and to assist the manufacturer compliance program. ($582,061).

Reimbursable Salaries: Funding was provided to carry out the work as prescribed in 46 U.S.C. 13107(c) and as described herein. The first position was that of a professional mathematician/statistician to conduct necessary national surveys and studies on recreational boating activities as well as to serve as a liaison to other Federal agencies that are conducting boating surveys so that we can pool our resources and reduce costs. The second position was that of a Recreational Boating Safety Specialist/Marine Investigator with responsibilities that include overseeing and managing RBS projects related to carbon monoxide poisoning, propeller injury mitigation, and manufacturer compliance initiatives. The third position was that of a Legislative and Strategic Planning Manager, with responsibilities that include analyzing proposed and enacted legislation for RBS impacts, and managing the development and implementation of the National Recreational Boating Safety Program's strategic plan. The fourth position was that of a Division Administrative Assistant, with responsibilities that include providing administrative support for the Boating Safety Division. ($476,778).

Trust Fund Financial Assessment: Funding was made available to provide a professional assessment of the Coast Guard's stewardship of the financial resources provided through the Sport Fish Restoration and Boating Trust Fund. ($214,998).

Web site Support: Funding was made available for this initiative to provide a full range of public media and boating safety information at http://www.uscgboating.org for a worldwide audience. It covers a wide spectrum of boating safety related topics and is dedicated to reducing loss of life, injuries, and property damage that occur on U.S. waterways by improving the knowledge, skills, and abilities of recreational boaters. ($75,153).

Of the $5.5 million made available to the Coast Guard in fiscal year 2014, $2,116,374 has been committed, obligated, or expended and an additional $657,196 of prior fiscal year funds have been committed, obligated, or expended, as of September 30, 2014. The remainder of the FY14 funds made available to the Coast Guard (approximately $3,380,000) may be retained for the allowable period for the National Recreational Boating Survey or transferred into the pool of money available for allocation through the state grant program.

Authority

This notice is issued pursuant to 5 U.S.C. 552 and 46 U.S.C. 13107(c)(4).

Dated: June 12, 2015.
J.C. Burton,
Captain, U.S. Coast Guard, Director of Inspections & Compliance.

[FR Doc. 2015-14924 Filed 6-17-15; 8:45 am]

BILLING CODE 9110-04-P